DEPARTMENT OF THE TREASURY

Customs Service

[T.D. 00-53]

Retraction of Revocation Notice

AGENCY: U.S. Customs Service, Department of the Treasury.

ACTION: General notice.

SUMMARY: The following Customs broker license numbers were erroneously included in a published list of revoked Customs brokers licenses in the Federal Register.

Port | Name | License No.
Cleveland | David E. Morgan | 15751
Cleveland | Robert J. McElroy | 15740
Los Angeles | Sheung Yip Lee | 12365
Dallas | Sandra L. Smith | 14314
Houston | Wanda M. Jeffcoat | 10307
Houston | Robert Bruce Warner | 05531
Houston | Darrell J. Sekin, Sr | 03278
Houston | Jillian Macy | 10982
Houston | D'Anne L. Brown | 05575
Houston | Patrica L. Blasdel | 05625
Houston | Michael W. Bruzga | 06942
Houston | Paul Robert Goltz | 05825
Houston | Pete Vela Fuentes | 05866
Houston | Teresa Hendrix | 13200
Houston | Laura Ann Lee | 14469
Houston | Pamela Kay Brooke | 06847
Houston | Gary L. Elkins | 06986
Houston | Johnnie Hill | 11077
Houston | Rodalfo Barraza | 07398
Houston | Christina Schurig | 12821
Houston | Judy Piercy | 12266
Houston | Kenneth R. Mahand | 06999
Houston | James R. Ewert, Jr | 07431
New Orleans | Karl Schneider | 11853

The above licenses are valid.

Dated: August 7, 2000.
Bonni G. Tischler,
Assistant Commissioner, Office of Field Operations.

[FR Doc. 00-20896 Filed 8-16-00; 8:45 am]

BILLING CODE 4820-02-P